DEPARTMENT OF AGRICULTURE

Natural Resources Conservation Service

Notice of Proposed Changes to Section IV of the Field Office Technical Guide (FOTG) of the Natural Resources Conservation Service in Indiana

AGENCY: Natural Resources Conservation Service (NRCS), DOA.

ACTION: Notice of availability of proposed changes in Section IV of the FOTG of the NRCS in Indiana for review and comment.

SUMMARY: It is the intention of NRCS in Indiana to issue a new conservation practice standard in Section IV of the FOTG. The new standard is Land Reconstruction of Brine Damaged Areas (Code 773). This practice may be used in conservation systems that treat highly erodible land.

DATES: Comments will be received on or before March 9, 2000.

ADDRESSES: Address all requests and comments to J. Chris Tippie, Acting State Conservationist, Natural Resources Conservation Service (NRCS), 6013 Lakeside Blvd., Indianapolis, Indiana 46278. Copies of this standard will be made available upon written request. You may submit electronic requests and comments to joe.gasperi@in.usda.gov.

FOR FURTHER INFORMATION CONTACT: J. Chris Tippie, 317-290-3200.

SUPPLEMENTARY INFORMATION: Section 343 of the Federal Agriculture Improvement and Reform Act of 1996 states that revisions made after enactment of the law, to NRCS state technical guides used to carry out highly erodible land and wetland provisions of the law, shall be made available for public review and comment. For the next 30 days, the NRCS in Indiana will receive comments relative to the proposed changes. Following that period, a determination will be made by the NRCS in Indiana regarding disposition of those comments and a final determination of changes will be made.

Dated: January 18, 2000.
J. Chris Tippie,
Acting State Conservationist, Indianapolis, Indiana.

[FR Doc. 00-2344 Filed 2-2-00; 8:45 am]

BILLING CODE 3410-16-P